DEPARTMENT OF TRANSPORTATION

Federal Aviation Administration

14 CFR Part 39

[Docket No. FAA-2006-24246; Directorate Identifier 2005-NM-115-AD; Amendment 39-14661; AD 2006-13-08]

RIN 2120-AA64

Airworthiness Directives; Airbus Model A330-200, A330-300, A340-200, and A340-300 Series Airplanes; and Model A340-541 and A340-642 Airplanes

AGENCY: Federal Aviation Administration (FAA), Department of Transportation (DOT).

ACTION: Final rule.

SUMMARY: The FAA is adopting a new airworthiness directive (AD) for all Airbus Model A330-200, A330-300, A340-200, and A340-300 series airplanes; and Model A340-541 and A340-642 airplanes. This AD requires an inspection for anti-fretting material contamination of the Halon filters and plumbing parts of the flow metering system (FMS) and flow metering compact unit (FMCU) in the lower deck cargo compartment (LDCC) and bulk crew rest compartment (BCRC), as applicable; other specified actions; and corrective actions if necessary. This AD results from a report that the FMS and FMCU of the fire extinguishing system may be blocked by anti-fretting material contamination. We are issuing this AD to prevent such anti-fretting material contamination, which could reduce the effectiveness of the fire extinguisher system to discharge fire extinguishing agents and to lower the concentration of Halon gas in the LDCC or BCRC in a timely manner. An ineffective fire extinguisher system in the event of a fire could result in an uncontrollable fire in the LDCC or BCRC.

DATES: This AD becomes effective July 27, 2006.

The Director of the Federal Register approved the incorporation by reference of certain publications listed in the AD as of July 27, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A330-200, A330-300, A340-200, and A340-300 series airplanes; and Model A340-541 and A340-642 airplanes. That NPRM was published in the Federal Register on March 28, 2006 (71 FR 15354). That NPRM proposed to require an inspection for anti-fretting material contamination of the Halon filters and plumbing parts of the flow metering system (FMS) and flow metering compact unit (FMCU) in the lower deck cargo compartment (LDCC) and bulk crew rest compartment (BCRC), as applicable; other specified actions; and corrective actions if necessary.

Comments

We provided the public the opportunity to participate in the development of this AD. We have considered the comments received.

Request To Revise the Applicability

Airbus requests that Model A330-302 and -303 airplanes be included in the applicability of paragraph (c)(2) of the NPRM. Airbus states that those airplanes are in the process of being U.S. type certificated.

We agree. We have determined that Model A330-302 and -303 airplanes are subject to the identified unsafe condition of this AD. Therefore, we have revised the applicability of paragraph (c)(2) and Table 2 and 3 of this AD to include those airplanes to ensure that the identified unsafe condition is addressed if any of those affected airplanes are imported and placed on the U.S. Register in the future.

Request To Refer To Correct Modification Number

Airbus requests that Airbus modification “49316” specified in paragraph (i)(1) of Table 4 of the NPRM be changed to “49136.” Airbus states Airbus modification 49316 addresses the landing gear and hydraulic hoses, which are not addressed by the NPRM, whereas Airbus modification 49136 addresses the BCRC, which is addressed by the NPRM.

We agree and have revised paragraph (i)(1) of Table 4 of the AD accordingly.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection and restoration | Between 7 and 9 depending on airplane configuration | $65 | None | Between $455 and $585 depending on airplane configuration | 25 | Between $11,375 and $14,625 depending on airplane configuration.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-13-08 Airbus: Amendment 39-14661. Docket No. FAA-2006-24246; Directorate Identifier 2005-NM-115-AD.

Effective Date

(a) This AD becomes effective July 27, 2006.

Affected ADs

(b) None.

Applicability

(c) This AD applies to the airplanes in table 1 of this AD; certificated in any category.

Table 1.—Affected Airplanes
All Airbus Model—;
(1) A330-201, -202, -203, -223, and -243 airplanes.
(2) A330-301, -302, -303, -321, -322, -323, -341, -342, and -343 airplanes.
(3) A340-211, -212, and -213 airplanes.
(4) A340-311, -312, and -313 airplanes.
(5) A340-541 airplanes.
(6) A340-642 airplanes.

Unsafe Condition

(d) This AD results from a report that the flow metering system (FMS) and the flow metering compact unit (FMCU) of the fire extinguishing system may be blocked by anti-fretting material contamination. We are issuing this AD to prevent such anti-fretting material contamination, which could reduce the effectiveness of the fire extinguisher system to discharge fire extinguishing agents and to lower the concentration of Halon gas in the lower deck cargo compartment (LDCC) and bulk crew rest compartment (BCRC) in a timely manner. An ineffective fire extinguisher system in the event of a fire could result in an uncontrollable fire in the LDCC or BCRC.

Compliance

(e) You are responsible for having the actions required by this AD performed within the compliance times specified, unless the actions have already been done.

Restoration

(f) After the effective date of this AD, after any activation of the fire extinguishing system, before further flight, restore the fire extinguishing system in the LDCC and in the BCRC, as applicable, in accordance with a method approved by either the Manager, International Branch, ANM-116, Transport Airplane Directorate, FAA; or the Direction Générale de l'Aviation Civile (or its delegated agent). The applicable airplane maintenance manual (AMM) in table 2 of this AD is one approved method, provided that the following caution note is included in the work instructions of that AMM:

“CAUTION: APPLY A SMALL QUANTITY OF THE CORRECT GREASE TO THE MALE THREADS OF THE CONNECTIONS. THIS WILL PREVENT DAMAGE TO THE THREADS. MAKE SURE THAT THE GREASE DOES NOT GO INTO THE PIPES. GREASE IN THE PIPES CAN CAUSE A MALFUNCTION OF THE SYSTEM.”

Table 2.—AMMs
For Model— | Page Block— | Of—
(1) A330-201, -202, -203, -223, -243, -301, -302, -303, -321, -322, -323, -341, -342, and -343 airplanes | 201 | Chapter 26-23-00 of Airbus A330 AMM (LDCC-FMS).
(2) A340-311, -312, and -313 airplanes | 201 | Chapter 26-28-00 of Airbus A340 AMM (BCRC-FMS).
(3) A340-541 and -642 airplanes | 201 | Chapter 26-28-00 of Airbus A340-500/-600 AMM (BCRC-FMS).
(4) A340-642 airplanes | 201 | Chapter 26-23-00 of Airbus A340-600 AMM (LDCC-FMCU).
(5) A340-211, -212, and -213 airplanes, and A340-311, -312, and -313 airplanes | 201 | Chapter 26-23-00 of Airbus A340 AMM (LDCC-FMS).
(6) A340-541 and -642 airplanes | 201 | Chapter 26-23-00 of Airbus A340-500/-600 AMM (LDCC-FMS).

Inspections of FMS in the LDCC

(g) For airplanes identified in paragraphs (c)(1) through (c)(5) of this AD inclusive, on which the date of issuance of the original standard airworthiness certificate or the date of issuance of the original export certificate of airworthiness is before October 2, 2004: Except as provided by paragraph (j) of this AD, within 2,400 flight hours after the effective date of this AD, do a one-time general visual inspection for anti-fretting material contamination of the Halon filters and plumbing parts of the FMS in the LDCC, do applicable corrective actions if necessary; and related investigative and other specified actions; in accordance with the Accomplishment Instructions of the applicable service bulletin in Table 3 of this AD. The applicable corrective and related investigative and other specified actions must be done before further flight.

Table 3.—Service Bulletins for Inspecting FMS in the LDCC
For Model— | Airbus Service Bulletin—
(1) A330-201, -202, -203, -223, -243, -301, -302, -303, -321, -322, -323, -341, -342, and -343 airplanes | A330-26-3031, Revision 02, dated February 1, 2005.
(2) A340-211, -212, -213, -311, -312, and -313 airplanes | A340-26-4031, Revision 02, dated February 1, 2005.
(3) A340-541 airplanes | A340-26-5007, dated January 31, 2005.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspection of FMCU in LDCC

(h) For airplanes identified in paragraph (c)(6) of this AD, on which the date of the original standard airworthiness certificate or the date of issuance of the original export certificate of airworthiness is before October 2, 2004: Except as provided by paragraph (j) of this AD, within 2,400 flight hours after the effective date of this AD, do a one-time general visual inspection for anti-fretting material contamination of the plumbing parts of the FMCU in the LDCC, and do applicable corrective and other specified actions. The actions must be done in accordance with the Accomplishment Instructions of Airbus Service Bulletin A340-26-5008, dated January 31, 2005. The applicable corrective and other specified actions must be done before further flight.

Inspection of the FMS in the BCRC

(i) For airplanes identified in Table 4 of this AD, on which the date of the original standard airworthiness certificate or the date of issuance of the original export certificate of airworthiness is before October 2, 2004: Except as provided by paragraph (j) of this AD, within 2,400 flight hours after the effective date of this AD, do a one-time general visual inspection for anti-fretting material contamination of the Halon filters and plumbing parts of the FMS in the BCRC, do applicable corrective actions if necessary; and related investigative and other specified actions. The actions must be done in accordance with the applicable service bulletin in table 4 of this AD. The applicable corrective and related investigative and other specified actions must be done before further flight.

Table 4.—Service Bulletins for Inspecting FMS in the BCRC
For airplanes identified in— | On which— | Do the actions in accordance with the Accomplishment Instructions of—
(1) Paragraphs (c)(5) and (c)(6) of this AD | The BCRC was incorporated in production in accordance with any Airbus modification 47198, 47884, 48895, 48710, 49136, 50107, 50900, or 51320 | Airbus Service Bulletin A340-26-5009, dated January 31, 2005.
(2) Paragraph (c)(4) of this AD | The BCRC was incorporated in production in accordance with Airbus modification 50901 | Airbus Service Bulletin A340-26-4035, dated February 22, 2005.

Compliance Time Extension for Paragraphs (g), (h), and (i) of this AD

(j) The inspection required by paragraphs (g), (h), and (i) of this AD may be done within 6,600 flight hours after the effective date of this AD, provided that you can conclusively determine from reviewing the airplane maintenance records that the fire extinguishing system has never been activated before the effective date of this AD. A log book entry is not acceptable for determining if a fire extinguishing bottle has been activated.

Alternative Methods of Compliance (AMOCs)

(k)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directives F-2005-019 R1 (for Model A330-200 and A330-300 series airplanes) and F-2005-020 R1 (for Model A340-200 and A340-300 series airplanes, and Model A340-541 and A340-642 airplanes), both issued May 11, 2005, also address the subject of this AD.

Material Incorporated by Reference

(m) You must use the service information specified in Table 5 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 5.—Material Incorporated by Reference
Airbus Service Bulletin | Revision level | Date
A330-26-3031 | 02 | February 1, 2005.
A340-26-4031 | 02 | February 1, 2005.
A340-26-4035 | Original | February 22, 2005.
A340-26-5007 | Original | January 31, 2005.
A340-26-5008 | Original | January 31, 2005.
A340-26-5009 | Original | January 31, 2005.

Issued in Renton, Washington, on June 13, 2006.
Ali Bahrami,
Manager, Transport Airplane Directorate, Aircraft Certification Service.

[FR Doc. 06-5548 Filed 6-21-06; 8:45 am]

BILLING CODE 4910-13-P